NUCLEAR REGULATORY COMMISSION

Notice of Availability of Draft Interim Staff Guidance Document HLWRS-ISG-04, “Preclosure Safety Analysis—Human Reliability Analysis”

AGENCY: Nuclear Regulatory Commission.

ACTION: Notice of availability.

FOR FURTHER INFORMATION CONTACT: Jon Chen, Project Manager, Project Management Branch B, Division of High-Level Waste Repository Safety, Office of Nuclear Material Safety and Safeguards, U.S. Nuclear Regulatory Commission, Washington, DC 20555-0001. Telephone: (301) 415-5526; fax number: (301) 415-5399; e-mail: jcc2@nrc.gov.

SUPPLEMENTARY INFORMATION:

I. Introduction

The Yucca Mountain Review Plan (YMRP) (July 2003, NUREG-1804, Revision 2) provides guidance for U.S. Nuclear Regulatory Commission (NRC) staff to evaluate a U.S. Department of Energy (DOE) license application for a geologic repository. NRC has prepared Interim Staff Guidance (ISG) to update and supplement the guidance provided in the YMRP.

NRC is soliciting public comments on Draft HLWRS-ISG-04 “Preclosure Safety Analysis—Human Reliability Analysis”, which will be considered in the final version, or subsequent revisions, to HLWRS-ISG-04.

II. Summary

The purpose of this notice is to provide the public with an opportunity to review and comment on draft HLWRS-ISG-4, which is to supplement the YMRP, for the NRC staff review of human reliability analysis (HRA) contained in the DOE preclosure safety analysis. Specifically, this ISG identifies additional NRC guidance available to aid the HRA review and provides additional considerations in areas of the license application review that are potentially affected by HRA. This ISG revises Sections 2.1.1.2, 2.1.1.3, 2.1.1.4, 2.1.1.6, 2.1.1.7, 2.5.5, and 2.5.6 of the YMRP.

III. Further Information

The documents related to this action are available electronically at NRC's Electronic Reading Room, at http://www.nrc.gov/reading-rm.html. From this site, a member of the public can access NRC's Agencywide Documents Access and Management System (ADAMS), which provides text and image files of NRC's public documents. The ADAMS accession number for the document related to this notice is provided in the following table. If an individual does not have access to ADAMS or if there are problems in accessing the documents located in ADAMS, contact the NRC Public Document Room (PDR) Reference staff, at 1-800-397-4209, or (301) 415-4737, or by e-mail, at pdr@nrc.gov.

ISG | ADAMS accession No.
Draft HLWRS-ISG-04, “Preclosure Safety Analysis—Human Reliability Analysis” | ML070820387

This document may also be viewed electronically on the public computers located at NRC's PDR, O-1F21, One White Flint North, 11555 Rockville Pike, Rockville, MD 20852. The PDR reproduction contractor will copy documents, for a fee. Comments and questions on draft HLWRS-ISG-04 should be directed to the NRC contact listed below by June 4, 2007. Comments received after this date will be considered if it is practical to do so, but assurance of consideration cannot be given to comments received after this date.

Contact: Tina Ghosh, Systems Performance Analyst, Technical Review Directorate, High-Level Waste Repository Safety, Division of the Office of Nuclear Material Safety and Safeguards, U.S. Nuclear Regulatory Commission, Washington, DC 20555-0001. Comments can also be submitted by telephone, fax, or e-mail, which are as follows: telephone: (301) 415-5000; fax number: (301) 415-5399; or e-mail: stg1@nrc.gov.

Dated at Rockville, Maryland this 10th day of April 2007.
For the Nuclear Regulatory Commission.
N. King Stablein,
Chief, Project Management Branch B, Division of High-Level Waste Repository Safety, Office of Nuclear Material Safety and Safeguards.

[FR Doc. E7-7466 Filed 4-18-07; 8:45 am]

BILLING CODE 7590-01-P